CORPORATION FOR NATIONAL AND COMMUNITY SERVICE

Submission for OMB Emergency Review

AGENCY: Corporation for National and Community Service.

ACTION: Notice.

SUMMARY: The Corporation for National and Community Service (hereinafter the “Corporation”), submitted the following information collection request (ICR) to the Office of Management and Budget (OMB) for review and clearance in accordance with the Paperwork Reduction Act of 1995, (PRA 95) (44 U.S.C. Chapter 35). The Corporation has requested OMB to review and approve its emergency request by September 9, 2003, for a period of six months. A copy of this ICR, with applicable supporting documentation, may be obtained by contacting the Corporation for National and Community Service, Office of Research and Policy Development, Ms. Theresa Hill, (202) 606-5000, Ext. 261, or by e-mail at THill@cns.gov.

On August 18, 2003, the Corporation printed a Federal Register Notice (see 68 FR 49453) in which it requested public comments for a new information collection activity entitled “Next Generation Grant Application Instructions.” This Notice provided for a 60-day public comment period to end on October 17, 2003. However, it is essential to the mission of the Corporation to begin the review, selection, and award process sooner than expected in order to award these grants by the beginning of next calendar year. Since the Corporation expects to provide more technical assistance to applicants applying for these funds (than for other competitions) there is a need to begin the process early. Thus, the Corporation hereby withdraws the August 18, 2003, 60-day public comment Notice, and requests that public comments be sent to the Office of Information and Regulatory Affairs, Attn: Ms. Fumie Yokota, OMB Desk Officer for the Corporation for National and Community Service, Office of Management and Budget, Room 10235, Washington, DC, 20503, (202) 395-3147 no later than September 8, 2003.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Type of Review: Emergency request.

Agency: Corporation for National and Community Service.

Title: Next Generation Grant Concept Paper and Application Instructions.

OMB Number: None.

Agency Number: None.

Affected Public: Eligible applicants to the Corporation for funding.

Total Respondents: 40.

Frequency: Once per year.

Average Time Per Response: Ten (10) hours.

Estimated Total Burden Hours: 400 hours.

Total Burden Cost (capital/startup): None.

Total Burden Cost (operating/maintenance): None.

Description: The purpose of this grant competition is to foster the next generation of national service organizations by providing seed money to help new and start-up organizations, and established organizations proposing new projects or programs, plan and implement new service programs that have the potential of becoming national in scope. For the reasons stated above, it is essential that the grant process begin this month. Therefore, the Corporation has requested OMB's emergency review and approval by September 9, 2003.

Dated: August 28, 2003.
Amy R. Mack,
Chief of Staff, Office of Chief Executive Officer.

[FR Doc. 03-22520 Filed 9-3-03; 8:45 am]

BILLING CODE 6050-$$-P